DEPARTMENT OF HOMELAND SECURITY

U.S. Citizenship and Immigration Services

[CIS No. 2468-09; DHS Docket No. USCIS-2009-0001; RIN No. 1615-ZA81]

Announcement of a Stakeholder Meeting on the E-Verify Program in Arizona

AGENCY: U.S. Citizenship and Immigration Services, DHS.

ACTION: Notice of meeting.

SUMMARY: The E-Verify Program is a free employment eligibility confirmation system operated jointly by U.S. Citizenship and Immigration Services (USCIS) and the Social Security Administration. It is designed to provide the best means available for determining employment eligibility of new hires and the validity of their Social Security numbers. The E-Verify Program allows participating employers to electronically confirm the employment eligibility of newly hired employees to help maintain a stable, legal workforce. The purpose of this notice is to announce a stakeholder meeting on the E-Verify Program. This meeting will help USCIS identify strengths and weaknesses of the E-Verify Program's implementation under Arizona law from multiple perspectives and will help assist the evaluation staff in prioritizing future research topics.

Date and Time: The meeting will be held on Monday, March 9, 2009, from 9 a.m. to 5 p.m.

ADDRESSES: The meeting will be held at the Pointe Hilton Squaw Peak, 7677 North 16th Street, Phoenix, Arizona 85020.

FOR FURTHER INFORMATION CONTACT: To RSVP for the meeting: Dr. Denise Glover, Westat, 1650 Research Boulevard, Rockville, MD 20850. Telephone: (301) 251-2269; Fax: (301) 294-3992. E-mail: deniseglover@westat.com. USCIS contact: Sara Speckhard, Research and Evaluation Division, Office of Policy and Strategy, U.S. Citizenship and Immigration Services, 20 Massachusetts Avenue, NW., Washington, DC 20529-2140 Telephone: (202) 272-1470. E-mail: sara.speckhard@dhs.gov.

SUPPLEMENTARY INFORMATION:

Background

Section 403—Illegal Immigration Reform and Immigrant Responsibility Act of 1996 (IIRIRA)

On September 15, 1997, the Immigration and Naturalization Service (INS) published a notice in the Federal Register describing pilot programs that are required by section 403 of IIRIRA. On December 20, 2004, U.S. Citizenship and Immigration Services (USCIS) announced the extension and expansion of one of these programs, the Basic Pilot, which was renamed the E-Verify Program in 2007. The E-Verify Program permits participating employers to electronically verify the employment authorization of newly hired employees against Social Security Administration and, in some cases, Department of Homeland Security, databases.

Program Evaluations

Section 405 of IIRIRA required that evaluation reports on the verification pilot programs be completed and sent to Congress. Those evaluation reports were submitted to Congress in 2001 and 2002. Since that time the former INS and now USCIS have continued to evaluate and report on the electronic employment verification program to ensure that it is meeting the E-Verify Program's goals of reducing unauthorized employment, reducing verification-related discrimination, protecting employee privacy and confidentiality, and minimizing employer burden. USCIS is currently evaluating the impact of expanded participation in the E-Verify Program under Arizona law. This meeting is being held as part of the evaluation to help the evaluators identify strengths and weaknesses of the E-Verify Program's implementation under Arizona law from multiple perspectives, obtain insights into the issues and impacts that might arise with implementation of E-Verify in a mandatory use environment, suggest how those issues might be addressed, and prioritize future research topics. USCIS understands that expanded E-Verify Program participation in Arizona relates to the enactment of certain requirements of Arizona State law; the purpose of the evaluation and this stakeholder meeting are to better understand effects on the E-Verify Program from the Federal perspective, rather than to analyze, construe or take a position as to the scope or merits of any particular provision of Arizona law.

Summary of Agenda

• Introductions.

• Update on the E-Verify Program.

• Overview of the fiscal year (FY) 2008 evaluation.

• Evaluation goals for FY 2009.

• Breakout group meetings to address topics such as addressing identity fraud, understanding and resolving tentative nonconfirmations, identifying program strengths and recommending program improvements focusing on specific types of employers (e.g., designated agents, employers using designated agents, employment and temporary help agencies, small employers, multi-site employers, and companies with large concentrations of immigrant workers).

• Discussion of output from individual breakout groups.

• Questions and comments.

Public Participation

The meeting is open to the public, but advance notice of attendance is requested to ensure adequate seating. Persons planning to attend should notify Dr. Glover, by February 27, 2009, at: Telephone: 301-251-2269; Fax: 301-294-3992, or e-mail at deniseglover@westat.com. Individuals who plan to attend and require special assistance, such as sign language interpretation or other reasonable accommodations, should contact Dr. Glover at least 72 hours prior to the meeting.

Dated: February 13, 2009.
Michael Aytes,
Acting Deputy Director, U.S. Citizenship and Immigration Services.

[FR Doc. E9-3543 Filed 2-17-09; 11:15 am]

BILLING CODE 9111-97-P